DEPARTMENT OF HOMELAND SECURITY

U.S. Citizenship and Immigration Services Agency Information Collection Activities: Form I-698, Extension of a Currently Approved Information Collection; Comment Request

ACTION: 60-Day notice of information collection under review: Form I-698, Application To Adjust Status From Temporary to Permanent Resident; OMB Control No. 1615-0035.

The Department of Homeland Security, U.S. Citizenship and Immigration Services (USCIS) will be submitting the following information collection request for review and clearance in accordance with the Paperwork Reduction Act of 1995. The information collection is published to obtain comments from the public and affected agencies. Comments are encouraged and will be accepted for sixty days until August 23, 2010.

During this 60-day period, USCIS will be evaluating whether to revise the Form I-698. Should USCIS decide to revise Form I-698 we will advise the public when we publish the 30-day notice in the Federal Register in accordance with the Paperwork Reduction Act. The public will then have 30 days to comment on any revisions to the Form I-698.

Written comments and/or suggestions regarding the item(s) contained in this notice, especially regarding the estimated public burden and associated response time, should be directed to the Department of Homeland Security (DHS), USCIS, Chief, Regulatory Products Division, 111 Massachusetts Avenue, NW., Washington, DC 20529-2210. Comments may also be submitted to DHS via facsimile to 202-272-8352 or via e-mail at rfs.regs@dhs.gov. When submitting comments by e-mail, please make sure to add OMB Control No. 1615-0035 in the subject box. Written comments and suggestions from the public and affected agencies concerning the collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Application To Adjust Status From Temporary to Permanent Resident.

(3) Agency form number, if any, and the applicable component of the Department of Homeland Security sponsoring the collection: Form I-698. U.S. Citizenship and Immigration Services (USCIS).

(4) Affected public who will be asked or required to respond, as well as a brief abstract: Primary: Individuals or Households. The data collected on this form is used by USCIS to determine eligibility to adjust an applicant's residence status.

(5) An estimate of the total number of respondents and the amount of time estimated for an average respondent to respond: 1,179 responses at 1 hour per response.

(6) An estimate of the total public burden (in hours) associated with the collection: 1,179 annual burden hours.

If you need a copy of the information collection instrument, please visit the Web site at: http://www.regulations.gov.

We may also be contacted at: USCIS, Regulatory Products Division, 111 Massachusetts Avenue, NW., Washington, DC 20529-2210; Telephone 202-272-8377.

Dated: June 18, 2010.
Stephen Tarragon,
Deputy Chief, Regulatory Products Division, U.S. Citizenship and Immigration Services, Department of Homeland Security.

[FR Doc. 2010-15172 Filed 6-22-10; 8:45 am]

BILLING CODE 9111-97-P